DEPARTMENT OF COMMERCE

Foreign-Trade Zones Board

[Order No. 1233]

Expansion of Foreign-Trade Zone 204 Tri-Cities, Tennessee/Virginia Area

Pursuant to its authority under the Foreign-Trade Zones Act of June 18, 1934, as amended (19 U.S.C. 81a-81u), the Foreign-Trade Zones Board (the Board) adopts the following Order:

Whereas, the Tri-Cities Airport Commission, grantee of Foreign-Trade Zone 204, submitted an application to the Board for authority to expand FTZ 204 to include a new site at the Holston Business and Technology Park (Site 8) in Kingsport (Hawkins County), Tennessee, and a new site at the Washington County Industrial Park (Site 9) in Johnson City (Washington County), Tennessee (FTZ Docket 42-2001; filed 10/26/01 and amended 12/22/01);

Whereas, notice inviting public comment was given in the Federal Register (66 FR 55637, 11/2/01) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application, as amended, to expand FTZ 204 is approved, subject to the Act and the Board's regulations, including Section 400.28, and further subject to the Board's standard 2,000-acre activation limit.

Signed at Washington, DC, this 7th day of June 2002.
Faryar Shirzad,
Assistant Secretary of Commerce for Import Administration, Alternate Chairman, Foreign-Trade Zones Board.

[FR Doc. 02-15344 Filed 6-17-02; 8:45 am]

BILLING CODE 3510-DS-P